DEPARTMENT OF THE INTERIOR

Bureau of Land Management

[CO-13000-1210-PA]

Wilderness Study Area Management; Year Round Closure of Pollock Bench Trail to Mountain Biking

AGENCY: Bureau of Land Management, Department of the Interior.

ACTION: Notice of intent to close Pollock Bench Trail to mountain bike use in the Black Ridge Canyons Wilderness Study Area.

SUMMARY: This order, issued under the authority of section 303 of the Federal Land Policy and Management Act of 1976 and 43 CFR 8364.1, prohibits use of the Pollock Bench Trail by mountain bikes in the Black Ridge Canyons Wilderness Study Area. The identified public lands are in Colorado, Mesa County, under the management jurisdiction of the Bureau of Land Management, Grand Junction Field Office. The area is located in T.1 N., R.3 W., Sections 14, 15, 22, and 27.

EFFECTIVE DATES: The closure shall be in effect year round beginning July 31, 2000 and shall remain in effect permanently.

SUPPLEMENTARY INFORMATION: BLM administers approximately 75,000 acres in the Black Ridge Canyons Wilderness Study Area (WSA). Contained within this WSA is the Pollock Bench Trail which has been open to mountain biking since the area became a WSA in the early 1980's. At that time, all types of use, including mountain bike use of the trail was very light. In recent years, the trail has become increasingly popular for mountain biking due to its close proximity to the cities of Fruita and Grand Junction. As a result of the large numbers of bikers now using the area, the trail is becoming wider in many places and off-trail tracks are very numerous. Riders are leaving the existing track along the majority of the trail. Numerous tracks can be seen passing through or around vegetation, leaving the trail for no apparent reason, or to access overlook spots. This use has created impairment of the areas wilderness values as defined in the BLM's Interim Management Policy and Guidelines for Lands Under Wilderness Review. Additionally, the cumulative impact of a higher and higher percentage of bikers using the trail is negatively affecting the recreation experience and safety of other trail users. This closure is necessary to protect the area's wilderness characteristics.

Notice of this closure will be posted at the BLM's Grand Junction Field Office as well as on-the-ground at the Pollock Bench Trailhead and at the Wilderness Study Area boundary.

Penalties: Violations of this restriction order are punishable by fines not to exceed $1,000 and/or imprisonment not to exceed 12 months.

FOR FURTHER INFORMATION CONTACT: Catherine Robertson, Field Manager, Grand Junction Field Office, 2815 H Road Grand Junction, Colorado 81506; (970) 244-3010.

Catherine Robertson,
Grand Junction Field Manager.

[FR Doc. 00-18861 Filed 7-25-00; 8:45 am]

BILLING CODE 4310-JB-P